DEPARTMENT OF THE INTERIOR

Bureau of Land Management

[LLNVL01000. L51100000.GN0000.LVEMF1402520. 241A.14X; MO#4500069499]

Notice of Availability of the Draft Environmental Impact Statement for the Gold Rock Mine Project, White Pine County, NV

AGENCY: Bureau of Land Management, Interior.

ACTION: Notice.

SUMMARY: In accordance with the National Environmental Policy Act of 1969, as amended, and the Federal Land Policy and Management Act of 1976, as amended (FLPMA), the Bureau of Land Management (BLM) Egan Field Office, Ely, Nevada has prepared a Draft Environmental Impact Statement (Draft EIS) for the proposed Gold Rock Mine Project in White Pine County, NV, and by this notice is announcing the opening of the public comment period on the Draft EIS.

DATES: To ensure comments will be considered, the BLM must receive written comments on the Draft EIS within 45 days following the date the Environmental Protection Agency publishes its Notice of Availability in the Federal Register. The BLM will announce any public meetings or other public involvement activities at least 15 days in advance through public notices, media releases, and/or mailings.

ADDRESSES: You may submit comments related to the Gold Rock Mine Project by any of the following methods:

• Web site: http://on.doi.gov/1zAxyW9.

• fax: 775-289-1910.

• mail: BLM Ely District, Egan Field Office, HC 33 Box 33500, Ely, NV 89301-9408.

Copies of the Draft EIS are available in the Egan Field Office at the above address and on the Ely District's Web page at http://www.blm.gov/nv/st/en/fo/ely_field_office/blm_programs/minerals/mining_projects/gold_rock_project.html.

FOR FURTHER INFORMATION CONTACT: For further information contact Dan Netcher, Project Manager, telephone 775-289-1872; address BLM Ely District, Egan Field Office, HC 33 Box 33500, Ely, NV 89301-9408; email dnetcher@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION:

Midway Gold US Inc. (Midway) proposes to construct and operate an open-pit gold mining operation on the eastern side of the Pancake Mountain Range, approximately 50 miles west of Ely in White Pine County, Nevada. The proposed location is 15 miles south of U.S. Route 50 near Newark Valley and the northern Railroad Valley, in the same geographic area as the reclaimed and closed Easy Junior Mine. Midway submitted the Gold Rock Mine Project Plan of Operations on March 21, 2013. The BLM's approval of the mine plan as proposed (the Proposed Action) would authorize approximately 3,946 acres of disturbance on land administered by the BLM. Under the Proposed Action, the proposed operations and associated disturbance would include a proposed power line extending south from the Pan Mine to the west side of the proposed Gold Rock Mine Project site. Also under the Proposed Action, a county road that currently passes through the Gold Rock Mine Project area would be re-located onto existing and new BLM and county roads. An updated inventory of lands with wilderness characteristics was completed and found no lands with wilderness characteristics in the project area.

The projected life of the project is 48 years: 10 years of mining and additional time for associated construction, reclamation, closure, and post-closure monitoring periods. Midway is currently conducting exploration activities in the project area; which activities were analyzed in two separate environmental assessments (EAs): The Midway Gold Rock Project Final Environmental Assessment (June 2012), and the Environmental Assessment for the Midway Gold Rock Project, Exploration Amendment (October 2012).

On September 5, 2013, a Notice of Intent (NOI) was published in the Federal Register inviting scoping comments on the Proposed Action. A legal notice was prepared by the BLM and published in the Ely Times, the Eureka Sentinel, the High Desert Advocate, and the Reno Gazette-Journal informing the public of the BLM's intention to prepare the Gold Rock Mine EIS. Public scoping meetings were held in September 2013 in Ely, Eureka, and Reno, Nevada. On November 7, 2013, the BLM learned that the email account set up to receive scoping comments on the Gold Rock Mine Project EIS, along with all of its contents, had disappeared during the first week of October 2013 and was not recoverable. On March 28, 2014, the BLM published a second Notice of Intent to prepare an EIS in the Federal Register, extending the scoping period for another 30-day public input period, inviting the public to submit comments, and requesting that anyone who submitted scoping comments by email during the initial 30-day scoping period (September 5, 2013, through October 7, 2013) resubmit their comments by mail, by fax, or through the ePlanning system during this 30-day extension of the public input period. No changes were made to the Proposed Action. No scoping meetings were held during this 30-day extension of the public input period, as these meetings were not affected by the technical difficulties with the email account. In total, 60 comment documents were received during scoping. The comments were incorporated in a Scoping Summary Report and were considered in the preparation of this Draft EIS.

Concerns raised during scoping include: Positive and negative socioeconomic impacts on the communities of Ely and Eureka, and to White Pine County; changes to the quantity and quality of surface water and groundwater; potential occurrence of acid drainage from waste rock disposal areas into surface or groundwater; impacts to soils through reduced infiltration or increased erosion; potential occurrence of a release of pollutants and hazardous materials to the environment during operations or following closure; impacts to wild horses and their habitat; impacts to vegetation communities, and vegetative food resources for wildlife; short- and long-term impacts on wildlife population dynamics and habitats; potential impacts to population and habitat of greater sage-grouse; potential impacts to Native American traditional and religious values regarding greater sage-grouse, antelope traps and geologic and mineral resources; impacts to air quality through point (equipment) and non-point (site roads and facilities) pollution sources; potential impacts to public health and safety resulting from increased traffic; impacts to general health of the rangeland resources; increase in light pollution in the area and direct visual impacts from mine facilities; potential impacts to cultural resource sites listed on or eligible for the National Register of Historic Places if they exist in or near the project area; and cumulative impacts to wildlife, wild horses, cultural, air, water, and vegetation resources, pine nut gathering, and Native American traditional and religious values.

The Draft EIS describes and analyzes the proposed project's site-specific impacts (including cumulative impacts) on all affected resources. The Proposed Action, six action alternatives, and the No Action Alternative were analyzed. Five of the six action alternatives were developed to help reduce impacts to greater sage-grouse: Two power line route alternatives, two main access route alternatives, and one county road re-route alternative. One tailings storage facility location alternative was also considered to minimize impacts to mule deer crucial winter range. Mitigation measures have also been identified to show how impacts on resources could be minimized.

The BLM has prepared the Draft EIS in conjunction with its four Cooperating Agencies: The Duckwater Shoshone Tribe, Eureka County Board of Commissioners, the Nevada Department of Wildlife, and the White Pine County Board of County Commissioners.

Please note that public comments and information submitted including names, street addresses, and email addresses of persons who submit comments will be available for public review and disclosure at the above address during regular business hours (8:00 a.m. to 4:00 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6; 40 CFR 1506.10

Jill A. Moore,
Egan Field Office Manager.

[FR Doc. 2015-02950 Filed 2-12-15; 8:45 am]

BILLING CODE 4310-HC-P